SECURITIES AND EXCHANGE COMMISSION

Sunshine Act Meetings

TIME AND DATE: Notice is hereby given, pursuant to the provisions of the Government in Sunshine Act, Public Law 94-409, that the Securities and Exchange Commission will hold a public meeting on Wednesday, June 13, 2018 at 2:00 p.m. (ET).

PLACE: The public meeting will be held in the Knowles Conference Center at Georgia State University College of Law, 85 Park Place Northeast, Atlanta, GA 30303.

STATUS: This meeting will begin at 2:00 p.m. (ET) and will be open to the public. Doors will open at 1:30 p.m. Visitors will be subject to security checks. The public meeting will be webcast from 2:00 p.m. to 3:00 p.m. on the Commission's website at www.sec.gov. The public is encouraged to RSVP for the meeting at https://www.sec.gov/investing-america.

MATTERS TO BE CONSIDERED: This Sunshine Act notice is being issued because a quorum of the Commission may attend the meeting. The purpose of the meeting is to provide retail investors with an opportunity to engage with SEC officials, including the Commissioners.

CONTACT PERSON FOR MORE INFORMATION: For further information and to ascertain what, if any, matters have been added, deleted or postponed, please contact Brent J. Fields from the Office of the Secretary at (202) 551-5400.

Dated: June 6, 2018.
Brent J. Fields,
Secretary.

[FR Doc. 2018-12540 Filed 6-6-18; 4:15 pm]

BILLING CODE 8011-01-P